DEPARTMENT OF COMMERCE

National Oceanic and Atmospheric Administration

RIN 0648-XE411

North Pacific Fishery Management Council; Public Meeting

AGENCY: National Marine Fisheries Service (NMFS), National Oceanic and Atmospheric Administration (NOAA), Commerce.

ACTION: Notice of a public meeting.

SUMMARY: The Center of Independent Experts will meet February 16 through February 19, 2016, in Seattle, WA.

DATES: The meeting will be held on Tuesday, February 16, 2016 through Friday, February 19, 2016 from 9 a.m. to 5 p.m.

ADDRESSES: The meeting will be held at the Alaska Fisheries Science Center (AFSC), in building 4, Room 2039 (Wednesday afternoon in Room 2143), 7600 Sand Point Way NE., Seattle, WA 98115.

Council address: North Pacific Fishery Management Council, 605 W. 4th Ave., Suite 306, Anchorage, AK 99501-2252; telephone: (907) 271-2809.

FOR FURTHER INFORMATION CONTACT: Grant Thompson, AFSC staff; telephone: (541) 737-9318.

SUPPLEMENTARY INFORMATION:

Agenda

Tuesday, February 16, 2016 Through Friday, February 19, 2016

The CIE is to review the Eastern Bering Sea (EBS) and Aleutian Island (AI) Pacific Cod Stock Assessment Models.

Special Accommodations

These meetings are physically accessible to people with disabilities. Requests for sign language interpretation or other auxiliary aids should be directed to Shannon Gleason at (907) 271-2809 at least 7 working days prior to the meeting date.

Dated: January 25, 2016.
Tracey L. Thompson,
Acting Deputy Director, Office of Sustainable Fisheries, National Marine Fisheries Service.

[FR Doc. 2016-01678 Filed 1-27-16; 8:45 am]

BILLING CODE 3510-22-P